DEPARTMENT OF ENERGY

Federal Energy Regulatory Commission

[Project No. 5000-078]

Ampersand Kayuta Lake Hydro LLC; Notice of Intent To Prepare an Environmental Assessment

On December 17, 2024, Ampersand Kayuta Lake Hydro LLC, licensee, filed a surrender application for the Kayuta Lake Project No. 5000. The project is located on the Black River near Boonville, Oneida County, New York. The project does not occupy federal lands.

Following the 2022 filing of a Notice of Intent and Pre-Application Document for relicensing the project and continued consultation with parties regarding potential licensing recommendations, the licensee ultimately determined that future licensing conditions would make the project uneconomic. Alternatively, the licensee proposes to surrender the project license. The project dam is owned by the New York State Canal Corporation (NYSCC) and would return to the NYSCC's jurisdiction. The licensee proposes to remove all generating equipment and leave in place the recreation facilities at the project. On March 12, 2025, the Commission issued a public notice for the proposed surrender, accepted the application for filing, and solicited comments, motions to intervene, and protests. Several filings were made in response to the Commission's notice. The current license expires on May 31, 2026.

This notice identifies Commission staff's intention to prepare an environmental assessment (EA) under the National Environmental Policy Act (42 U.S.C. 4321 et seq.) for the project.¹ Commission staff plans to issue an EA by December 10, 2025. Revisions to the schedule may be made as appropriate. The EA will be issued for a 30-day comment period. All comments filed on the EA will be reviewed by staff and considered in the Commission's final decision on the proceeding.

¹ The unique identification number for documents relating to this environmental review is EAXX-019-20-000-1753881603.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Diana Shannon at 202-502-6136 or diana.shannon@ferc.gov.

Dated: August 8, 2025.
Debbie-Anne A. Reese,
Secretary.

[FR Doc. 2025-15365 Filed 8-12-25; 8:45 am]

BILLING CODE 6717-01-P